DEPARTMENT OF COMMERCE

Foreign-Trade Zones Board

[Docket 13-2003]

Foreign-Trade Zone 151—Findlay, OH; Application for Extension of Zone Status

An application has been submitted to the Foreign-Trade Zones (FTZ) Board (the Board), by the Findlay Hancock Chamber of Commerce (FHCOC), grantee of Foreign-Trade Zone 151, requesting extension of authority for FTZ 151-Site 2 within the Toledo Customs port of entry. The application was submitted pursuant to the provisions of the Foreign-Trade Zones Act, as amended (19 U.S.C. 81a-81u), and the regulations of the Board (15 CFR part 400). It was formally filed on March 5, 2003.

FTZ 151-Site 2 was approved on February 10, 1999 (Board Order 1023, 64 FR 8542, 2/22/99). The authorization was for a four-year period ending June 30, 2003, subject to extension upon review. The grantee now requests an indefinite extension of authority for FTZ 151-Site 2. (A temporary time extension (to 6/30/04) was approved until a full Board review of the indefinite extension proposal can be completed (A(27f)-5-03, 3/4/03)).

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is May 12, 2003. Rebuttal comments in response to material submitted during the foregoing period may be submitted during the subsequent 15-day period (to May 27, 2003).

A copy of the application and accompanying exhibits will be available for public inspection at the Office of the Foreign-Trade Zones Board's Executive Secretary at the first address listed above, and at the Office of the Findlay/Hancock County Chamber of Commerce, 123 E. Main Cross Street, Findlay, Ohio 45840.

Dated: March 5, 2003.
Dennis Puccinelli,
Executive Secretary.

[FR Doc. 03-6086 Filed 3-12-03; 8:45 am]

BILLING CODE 3510-DS-P